DEPARTMENT OF THE INTERIOR

National Park Service

National Register of Historic Places; Notification of Pending Nominations

Nominations for the following properties being considered for listing in the National Register were received by the National Park Service before June 9, 2001. Pursuant to section 60.13 of 36 CFR Part 60 written comments concerning the significance of these properties under the National Register criteria for evaluation may be forwarded to the National Register, National Park Service, 1849 C St., NW., NC400, Washington, DC 20240. Written comments should be submitted by July 9, 2001.

Carol D. Shull,
Keeper of the National Register Of Historic Places.

Arkansas

Greene County

Texaco Station No. 1, (Arkansas Highway History and Architecture MPS), 110 E. Main St., Paragould, 01000718

California

Mariposa County

Bower Cave, Address Restricted, Greeley Hill, 01000719

Georgia

Cobb County

Power, George A., House, Hyde Rd., Marietta, 01000720

Maryland

Anne Arundel County

Mt. Tabor Good Samaritan Lodge #59, 1407 St. Stephen's Church Rd., Crownsville, 01000724

Massachusetts

Berkshire County

Hillside Cemetery, (North Adams MRA), West Main St., North Adams, 01000722

Missouri

Buchanan County

Harris Addition Historic District, (St. Joseph, Missouri MPS), Roughly bounded by 16th St., Dalton St., 22nd St., and Edmond St., St. Joseph, 01000723

Kemper Addition Historic District, (St. Joseph, Missouri MPS), Portions of Clay, Union, Kemper and Bon Ton Sts., St. Joseph, 01000721

North Carolina

Mecklenburg County

Gluyas, Thomas and Latitia, House, (Mecklenburg County MPS), 7314 Mount Holly-Huntersville Rd., Huntersville, 01000725

Tennessee

Fayette County

Rossville Historic District, Roughly along Main, Second, and Front Sts., Rossville, 01000726

Hamilton County

Signal Mountain Historic District, Roughly along James Blvd., Brady Point Rd., and Signal Point Rd., Signal Mountain, 01000729

Wauhatchie Pike, (Chickamauga-Chattanooga Civil War-Related Sites in Georgia and Tennessee MPS), Old Wauhatchie Pike, Lookout Mountain, 01000727

Jackson County

Gainesboro Residential Historic District, Roughly along Dixie Ave., and Cox, Minor, and N. Murray Sts., Gainesboro, 01000728

Marion County

South Pittsburg Historic District (Boundary Increase), 700-804 Elm Ave., South Pittsburg, 01000730

Marshall County

Confederate Cemetery Monument, N side of TN 64E, Farmington, 01000731

Vermont

Addison County

Daniels, Capts. Louis and Philomene, House, 50 Macdonough Dr., Vergennes, 01000733

Orleans County

Dickerman, Jerry E., House, 36 Field Ave., Newport, 01000732

Wisconsin

Bayfield County

Forest Lodge Library, 13450 Cty Hwy M, Cable, 01000735

Door County

FLEETWING (shipwreck), (Great Lakes Shipwreck Sites of Wisconsin MPS), Address Restricted, Liberty Grove, 01000734

Grant County

Eagle Valley Mound District, (Late Woodland Stage in Archeological Region 8 MPS), Address Restricted, Glen Haven, 01000736

Kenosha County

Rosinco, 12 mi. E of Kenosha, Lake Michigan, 01000737

A request for REMOVAL has been made for the following resource:

Tennessee

Marion County

Cumberland Avenue Bridge Cumberland Ave. over Poplar Springs Branch Cr. South Pittsburg, 91001584

[FR Doc. 01-15718 Filed 6-21-01; 8:45 am]

BILLING CODE 4310-70-P